DEPARTMENT OF TRANSPORTATION

Federal Railroad Administration

[Docket Number FRA-2006-25452]

Petition for Waiver of Compliance

Under part 211 of Title 49 of the Code of Federal Regulations (CFR), this provides the public notice that on September 29, 2017, the South Carolina Railroad Museum, Inc. (SCRM) petitioned the Federal Railroad Administration (FRA) for a waiver of compliance from certain provisions of the Federal railroad safety regulations contained at 49 CFR part 219. FRA assigned the petition docket number FRA 2006-25452.

Specifically, SCRM requests an extension of its existing waiver for the relief from the alcohol and drug testing requirements in part 219, Subpart G—Random Alcohol and Drug Testing Programs. The SCRM is a non-profit railroad museum located near Winnsboro, SC. It operates scheduled excursion passenger trains on certain weekends, and special charter trains. SCRM states that its excursion trains run on about 29 days per calendar year, and 2 to 6 trains are scheduled on each day. In 2016, SCRM also operated 19 charter trains. The round trip of these trains is 10.2 miles. The trains are staffed entirely by 13 volunteers who are certified, as appropriate, under 49 CFR parts 240 and 242. SCRM's operating rules forbid the use of drugs and alcohol on museum property, and forbid train crew personnel from serving after using alcohol or drugs. SCRM states in its petition letter that in 28 years of operation, there have been no known instances of alcohol or drug use by museum volunteers serving on train crews.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE., Room W12-140, Washington, DC 20590, between 9 a.m. and 5 p.m., Monday through Friday, except Federal Holidays.

Communications received by January 8, 2018 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
Robert C. Lauby,
Associate Administrator for Railroad Safety Chief Safety Officer.

[FR Doc. 2017-25362 Filed 11-22-17; 8:45 am]

BILLING CODE 4910-06-P